DEPARTMENT OF ENERGY

Federal Energy Regulatory Commission

Combined Notice of Filings #1

Take notice that the Commission received the following electric corporate filings:

Docket Numbers: EC18-147-000.

Applicants: Avista Corporation.

Description: Supplement to August 31, 2018 Application for Authorization Under Section 203 of the Federal Power Act, et al. of Avista Corporation.

Filed Date: 9/14/18.

Accession Number: 20180914-5067.

Comments Due: 5 p.m. ET 10/5/18.

Take notice that the Commission received the following electric rate filings:

Docket Numbers: ER18-2009-001.

Applicants: Southwest Power Pool, Inc.

Description: Tariff Amendment: Deficiency Response—Revisions to Enhance Regulation Deployment of DVERs to be effective 12/18/2018.

Filed Date: 9/14/18.

Accession Number: 20180914-5101.

Comments Due: 5 p.m. ET 10/5/18.

Docket Numbers: ER18-2421-000.

Applicants: California Independent System Operator Corporation.

Description: § 205(d) Rate Filing: 2018-09-13 Dynamic Transfer Balancing Authority Operating Agmt with Nevada Power to be effective 10/27/2018.

Filed Date: 9/13/18.

Accession Number: 20180913-5089.

Comments Due: 5 p.m. ET 10/4/18.

Docket Numbers: ER18-2422-000.

Applicants: California Independent System Operator Corporation.

Description: § 205(d) Rate Filing: 2018-09-13 Amendment No. 4 to ABAOA with Nevada Power Company to be effective 11/13/2018.

Filed Date: 9/13/18.

Accession Number: 20180913-5090.

Comments Due: 5 p.m. ET 10/4/18.

Docket Numbers: ER18-2423-000.

Applicants: Midcontinent Independent System Operator, Inc.

Description: § 205(d) Rate Filing: 2018-09-14_SA 3145 Heartland Wind-NSPM E&P (J432) to be effective 9/15/2018.

Filed Date: 9/14/18.

Accession Number: 20180914-5009.

Comments Due: 5 p.m. ET 10/5/18.

Docket Numbers: ER18-2424-000.

Applicants: Midcontinent Independent System Operator, Inc.

Description: § 205(d) Rate Filing: 2018-09-14_SA 3147 MMPA-NSP TSR CPA (F115) to be effective 8/14/2018.

Filed Date: 9/14/18.

Accession Number: 20180914-5033.

Comments Due: 5 p.m. ET 10/5/18.

Docket Numbers: ER18-2425-000.

Applicants: Duke Energy Progress, LLC.

Description: § 205(d) Rate Filing: DEP-Fayetteville PWC PSCA Amendment to be effective 11/13/2018.

Filed Date: 9/14/18.

Accession Number: 20180914-5035.

Comments Due: 5 p.m. ET 10/5/18.

Docket Numbers: ER18-2426-000.

Applicants: The Potomac Edison Company, PJM Interconnection, L.L.C.

Description: § 205(d) Rate Filing: Potomac submits IA SA No. 4452 to be effective 11/13/2018.

Filed Date: 9/14/18.

Accession Number: 20180914-5038.

Comments Due: 5 p.m. ET 10/5/18.

Docket Numbers: ER18-2427-000.

Applicants: Nevada Power Company.

Description: § 205(d) Rate Filing: NPC Concurrence to CAISO SA4819 to be effective 9/13/2018.

Filed Date: 9/14/18.

Accession Number: 20180914-5084.

Comments Due: 5 p.m. ET 10/5/18.

Docket Numbers: ER18-2428-000.

Applicants: Public Service Company of Colorado.

Description: § 205(d) Rate Filing: 2018-09-14 Ministerial Revisions-Att O-PSCo Tbl 35, Sch 16 to be effective 4/16/2016.

Filed Date: 9/14/18.

Accession Number: 20180914-5102.

Comments Due: 5 p.m. ET 10/5/18.

Docket Numbers: ER18-2429-000.

Applicants: California Independent System Operator Corporation.

Description: § 205(d) Rate Filing: 2018-09-14 First Amendment to MEEA between CAISO and SMUD—Sutter Energy to be effective 9/15/2018.

Filed Date: 9/14/18.

Accession Number: 20180914-5110.

Comments Due: 5 p.m. ET 10/5/18.

Docket Numbers: ER18-2429-001.

Applicants: California Independent System Operator Corporation.

Description: Tariff Amendment: 2018-09-14 Second Amendment to MEEA between CAISO and SMUD—Sutter Energy to to be effective 11/29/2018.

Filed Date: 9/14/18.

Accession Number: 20180914-5142.

Comments Due: 5 p.m. ET 10/5/18.

Docket Numbers: ER18-2430-000.

Applicants: Otter Tail Power Company.

Description: Tariff Cancellation: Notice of Termination of Fibrominn CASOT Service Agreement to be effective 11/13/2018.

Filed Date: 9/14/18.

Accession Number: 20180914-5116.

Comments Due: 5 p.m. ET 10/5/18.

Docket Numbers: ER18-2431-000.

Applicants: Southwest Power Pool, Inc.

Description: § 205(d) Rate Filing: 2198R26 Kansas Power Pool NITSA NOA to be effective 9/1/2018.

Filed Date: 9/14/18.

Accession Number: 20180914-5159.

Comments Due: 5 p.m. ET 10/5/18.

Docket Numbers: ER18-2432-000.

Applicants: ISO New England Inc., Central Maine Power Company.

Description: § 205(d) Rate Filing: Second Revised LGIA-ISONE/CMP-08-01 under Schedule 22 of ISO-NE OATT to be effective 8/16/2018.

Filed Date: 9/14/18.

Accession Number: 20180914-5160.

Comments Due: 5 p.m. ET 10/5/18.

Take notice that the Commission received the following public utility holding company filings:

Docket Numbers: PH18-14-000.

Applicants: CMS Energy Corporation.

Description: CMS Energy Corporation submits FERC 65-B Notice of Material Change.

Filed Date: 9/14/18.

Accession Number: 20180914-5076.

Comments Due: 5 p.m. ET 10/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2018.
Nathaniel J. Davis, Sr.,
Deputy Secretary.

[FR Doc. 2018-20555 Filed 9-20-18; 8:45 am]

BILLING CODE 6717-01-P